DEPARTMENT OF ENERGY

Federal Energy Regulatory Commission

[Project No. 14657-000]

Appalachian Mountain Club; Notice of Availability of Environmental Assessment

In accordance with the National Environmental Policy Act of 1969 and the Federal Energy Regulatory Commission's (Commission) regulations, 18 CFR part 380 (Order No. 486, 52 FR 47879, December 17, 1987), the Office of Energy Projects has reviewed the application for the Zealand Falls Hydroelectric Project, located on the on Whitewall Brook, in the Town of Bethlehem, Grafton County, New Hampshire and has prepared an Environmental Assessment (EA) for the project. The project occupies 0.66 acres of federal land managed by the U.S. Forest Service.

The EA contains the staff's analysis of the potential environmental impacts of the project and concludes that licensing the project, with appropriate environmental protective measures, would not constitute a major federal action that would significantly affect the quality of the human environment.

A copy of the EA is available for review at the Commission in the Public Reference Room or may be viewed on the Commission's Web site at http://www.ferc.gov using the “eLibrary” link. Enter the docket number excluding the last three digits in the docket number field to access the document. For assistance, contact FERC Online Support at FERCOnlineSupport@ferc.gov, (866) 208-3676 (toll free), or (202) 502-8659 (TTY).

You may also register online at http://www.ferc.gov/docs-filing/esubscription.asp to be notified via email of new filings and issuances related to this or other pending projects. For assistance, contact FERC Online Support.

For further information, contact John Baummer at (202) 502-6837.

Dated: August 12, 2015.
Kimberly D. Bose,
Secretary.

[FR Doc. 2015-20428 Filed 8-19-15; 8:45 am]

BILLING CODE 6717-01-P